DEPARTMENT OF THE INTERIOR

Bureau of Land Management

[CA-160-1220-00]

Amendment of Meeting Notice for Central California Resource Advisory Council

This is to amend the meeting place address listed in the notice that was already published.

DATES: Thursday and Friday, November 30-December 1, 2000.

ADDRESSES: BLM California State Office, 2800 Cottage Way, Sacramento, CA 95825.

FOR FURTHER INFORMATION CONTACT: Larry Mercer, Public Affairs Officer, Bureau of Land Management, 3801 Pegasus Drive, Bakersfield, CA 93308, telephone 661-391-6012.

Dated: November 16, 2000.
Ron Fellows,
Field Manager.

[FR Doc. 00-30388 Filed 11-28-00; 8:45 am]

BILLING CODE 4310-40-M